DEPARTMENT OF LABOR

Employment and Training Administration

[TA-W-57,590]

Union Stamping & Assembly, Inc., d/b/a/ Mayflower Vehicle Systems, South Charleston, WV; Notice of Termination of Investigation

Pursuant to Section 221 of the Trade Act of 1974, as amended, an investigation was initiated on July 20, 2005 in response to a petition filed on behalf of workers at Union Stamping & Assembly, d/b/a Mayflower Vehicle Systems, South Charleston, West Virginia.

The petitioners have requested that the petition be withdrawn. Consequently, further investigation would serve no purpose, and the investigation has been terminated.

Signed at Washington, DC, this 15th day of August, 2005.
Linda G. Poole,
Certifying Officer, Division of Trade Adjustment Assistance.

[FR Doc. E5-4781 Filed 8-31-05; 8:45 am]

BILLING CODE 4510-30-P